ENVIRONMENTAL PROTECTION AGENCY

[EPA-HQ-OW-2017-0518]

Notice of Intent To Prepare a Programmatic Environmental Assessment (PEA) for Financing Water and Wastewater Infrastructure Projects Pursuant to the Water Infrastructure Finance and Innovation Act

AGENCY: Environmental Protection Agency (EPA).

ACTION: Initiation of scoping.

SUMMARY: Consistent with the National Environmental Policy Act (NEPA), the Council on Environmental Quality's NEPA regulations, and EPA's regulations for implementing NEPA, EPA will prepare a Programmatic Environmental Assessment (PEA) to analyze the potential environmental impacts related to providing individual long-term, low-cost supplemental loans or loan guarantees for regionally and nationally significant eligible water and wastewater infrastructure projects under the Water Infrastructure Finance and Innovation Act (WIFIA) Program. EPA will use the information in the PEA to determine whether to prepare an Environmental Impact Statement (EIS). Future proposed actions under WIFIA that have potential impacts not sufficiently addressed by this PEA may require consideration in a separate NEPA document.

This notice initiates the scoping process by inviting comments from Federal, State, and local agencies, Indian tribes, and the public to help identify the environmental issues and reasonable alternatives to be examined in the PEA. The scoping process will inform the preparation and issuance of the PEA, which will be made available for public comment.

DATES: Comments must be received on or before October 20th, 2017.

ADDRESSES: Submit your comments, identified by Docket ID No. EPA-HQ-OW-2017-0518 to the Federal eRulemaking Portal: https://www.regulations.gov/. Please follow the online instructions for submitting comments. Once submitted, comments cannot be edited or withdrawn. The EPA may publish public comments received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Alejandro Escobar, Water Infrastructure Division, WIFIA Program, Mail Code: 4201T, Environmental Protection Agency, 1200 Pennsylvania Avenue NW., Washington, DC 20460; telephone number: 202-564-9047; email address escobar.alejandro@epa.gov.

SUPPLEMENTARY INFORMATION: EPA is seeking public comment to determine the scope of projects, environmental issues and reasonable alternatives to be addressed in the PEA on providing loans or loan guarantees for water and wastewater infrastructure projects under the Water Infrastructure Finance and Innovation Act (WIFIA) Program.

The Water Infrastructure Finance and Innovation Act of 2014 (WIFIA) established the WIFIA program, a federal credit program administered by EPA for eligible water and wastewater infrastructure projects. WIFIA and the WIFIA implementation rule (see 81 FR 91822) outline the eligibility and other requirements for prospective borrowers. Eligible borrowers are: Local, State, Tribal, and Federal government entities; partnerships and joint ventures; corporations and trusts; and Clean Water and Drinking Water State Revolving Fund (SRF) programs.

The WIFIA program can finance development and implementation activities for the following eligible projects: Wastewater conveyance and treatment projects that are eligible for the Clean Water SRF; drinking water treatment and distribution projects that are eligible for the Drinking Water SRF; enhanced energy efficiency projects at drinking water and wastewater facilities; brackish or seawater desalination, aquifer recharge, alternative water supply, and water recycling projects; drought prevention, reduction, or mitigation projects; acquisition of property if it is integral to the project or will mitigate the environmental impact of a project; and a combination of projects secured by a common security pledge or submitted under one application by an SRF program.

Eligible development and implementation activities are: Development phase activities, including planning, preliminary engineering, design, environmental review, revenue forecasting, and other pre-construction activities; construction, reconstruction, rehabilitation, and replacement activities; acquisition of real property or an interest in real property, environmental mitigation, construction contingencies, and acquisition of equipment; capitalized interest necessary to meet market requirements, reasonably required reserve funds, capital issuance expenses and other carrying costs during construction.

EPA is currently planning to analyze two alternatives in the PEA: No Action, that is not providing financing; and the proposed action, which is providing financing to individual selected applicants. The PEA will focus its analysis on the potential environmental impacts of both alternatives. Subject areas to be addressed include, but are not limited to: Public health, water quality and quantity (surface and groundwater), historic properties, and threatened and endangered species.

Dated: September 14, 2017.
Kelly Knight,
Director, NEPA Compliance Division, Office of Federal Activities.

[FR Doc. 2017-19956 Filed 9-19-17; 8:45 am]

BILLING CODE 6560-50-P